ENVIRONMENTAL PROTECTION AGENCY

[ER-FRL-6624-1]

Environmental Impact Statements; Notice of Availability

Responsible Agency: Office of Federal Activities, General Information (202) 564-7167 or www.epa.gov/oeca/ofa

Weekly receipt of Environmental Impact Statements

Filed November 19, 2001 Through November 23, 2001

Pursuant to 40 CFR 1506.9.

EIS No. 010443, Draft EIS, AFS, WA, Gardin—Taco Ecosystem Restoration Projects, Implementation, Vegetative Restoration, Road Closures, and Decommissioning, and other Road Improvements, Colville National Forest, Newport Ranger District, Pend Oreille and Stevens Counties, WA, Comment Period Ends: January 14, 2002, Contact: Dan Dallas (509) 447-7300.

EIS No. 010444, Final EIS, STB, SD, WY, MN, Powder River Basin Expansion Project, Construction of New Rail Facilities, Finance Docket No. 33407 Dakota, Minnesota and Eastern Railroad, SD, WY and MN, Wait Period Ends: December 31, 2001, Contact: Victoria Rutson (202) 565-1545.

EIS No. 010445, Final EIS, EPA, NC, New Wilmington Ocean Dredged Material Disposal Site, Designation, Wilmington Harbor, North Carolina State Port and the Military Ocean Terminal (Sunny Point (MOTSU), NC, Wait Period Ends: December 31, 2001, Contact: Gary Collins (404) 564-9395.

EIS No. 010446, Draft EIS, AFS, ID, Middle-Black Analysis Project, Proposes Vegetative Management, Watershed Restoration, and Noxious Weed Activities Aimed at Ecosystem Restoration, Clearwater National Forest, North Fork Ranger District, Clearwater County, ID, Comment Period Ends: January 28, 2002, Contact: Douglas Gober (208) 476-4541.

EIS No. 010447, Final EIS, AFS, ID, Iron Honey Resource Area Project, Aquatic, Vegetative and Wildlife Habitat Improvement Activities, Implementation, Coeur d'Alene River Ranger District, Idaho Panhandle National Forests, Kootenai and Shoshone Counties, ID, Wait Period Ends: December 31, 2001, Contact: Joseph P. Stringer (208) 664-2318.

EIS No. 010448, Draft EIS, NOA, Deep-sea Red Crab (chaceon quinquedens) Fisheries, Fishery Management Plan, Development and Implementation, Norfolk Canyon in the South to the Haque Line in the North, Continental United States and Exclusive Economic Zone (EEZ), Comment Period Ends: January 07, 2002, Contact: Paul J. Howard (978) 465-3116. Under Section 1506.10(d) of the Council on Environmental Quality Regulations for Implementing the Procedural Provisions of the National Environmental Policy Act the US Environmental Protection Agency has Granted a 7-Day Waiver for the above EIS.

EIS No. 010449, Final EIS, FRC, NY, Upper Hudson River Hydroelectric Project, Relicensing the E.J. West Project (FERC No. 2318-002), Stewart Bridge Project (FERC No. 2047-004), Hudson River Project (FERC No. 2482-014) and Feeder Dam Hydroelectric Project (FERC No. 2554-003), Saratoga, Fulton and Hamilton Counties, NY, Wait Period Ends: December 31, 2001, Contact: Lee Emery (202) 219-2779.

EIS No. 010500, Draft Supplement, BIA, NV, Moapa Paiute Energy Center/Associated Facilities Construction, Operation and Maintenance of a 760 Megawatt (MW) Baseload Natural Gas-Fired Combined Cycle Power Plant, Additional Information, Land Lease and Water Use Approval, R-O-W Grants, Temporary Use, COE Section 10/404 and EPA NPDES Permits, Moapa River Indian Reservation and BLM, Comment Period Ends: January 04, 2002, Contact: Amy L. Heuslien (602) 379-6750. The US Department of Interior's Bureau of Land Management and Bureau of Indian Affairs are Joint Lead Agencies for the above Project.

Amended Notices

EIS No. 010423, Draft EIS, UAF, OK, Altus Air Force Base (AFB), Proposed Airfield Repairs, Improvements, and Adjustments to Aircrew Training, Installation of an Instrument Landing System (ILS) and a Microwave Landing System (MLS), Jackson County, OK, Comment Period Ends: December 31, 2001, Contact: Ron Voorhees (210) 652-3656. Published FR-11-16-01—Correction to State from OR to OK.

EIS No. 010428, Draft EIS, FHW, KY, IN, Louisville-Southern Indiana Ohio River Bridges Projects, To Improve Cross-River Mobility between Jefferson County, KY and Clark County, IN, Coast Guard Bridge Permit, COE Section 10 and 404 Permits, Jefferson County, KY and Clark County, IN, Comment Period Ends: February 25, 2002, Contact: John Ballantyne (502) 223-6747. Published FR 11-16-01 Correction to State from ID to IN.

Dated: November 27, 2001.
B. Katherine Biggs,
Associate Director, NEPA Compliance Division, Office of Federal Activities.

[FR Doc. 01-29789 Filed 11-29-01; 8:45 am]

BILLING CODE 6560-SO-U